DEPARTMENT OF DEFENSE

Office of the Secretary

Notice of Intent To Grant an Exclusive License; University of Maryland

AGENCY: National Security Agency, DoD.

ACTION: Notice.

SUMMARY: The National Security Agency hereby gives notice of its intent to grant University of Maryland a revocable, non-assignable, exclusive license to practice the following Government-Owned invention as described in U.S. Patent Application Serial No. 61/081,998 entitled: “Flexible, High Specific Energy Density, Rechargeable Battery,” filed with the U.S. Patent & Trademark Office on July 18, 2008, and any related non-provisional patent application and all Letters Patent issuing thereon, and any continuation, continuation-in-part or division of said non-provisional patent application and any reissue or extension of said Letters Patent, in the field of thin film batteries. The above-mentioned invention is assigned to the United States Government as represented by the National Security Agency.

DATES: Anyone wishing to object to the grant of this license has fifteen (15) days from the date of this notice to file written objections along with any supporting evidence, if any.

ADDRESSES: Written objections are to be filed with the National Security Agency Technology Transfer Program, 9800 Savage Road, Suite 6541, Fort George G. Meade, MD 20755-6541.

FOR FURTHER INFORMATION CONTACT: Marian T. Roche, Director, Technology Transfer Program, 9800 Savage Road, Suite 6541, Fort George G. Meade, MD 20755-6541, telephone (443) 479-9569.

Dated: May 28, 2009.
Patricia L. Toppings,
OSD Federal Register Liaison Officer, Department of Defense.

[FR Doc. E9-12883 Filed 6-2-09; 8:45 am]

BILLING CODE 5001-06-P